DEPARTMENT OF HOMELAND SECURITY

Federal Emergency Management Agency

[Docket ID FEMA-2013-0024; OMB No. 1660-0022]

Agency Information Collection Activities: Proposed Collection; Comment Request

AGENCY: Federal Emergency Management Agency, DHS.

ACTION: Notice.

SUMMARY: The Federal Emergency Management Agency, as part of its continuing effort to reduce paperwork and respondent burden, invites the general public and other Federal agencies to take this opportunity to comment on a revision of a currently approved information collection. In accordance with the Paperwork Reduction Act of 1995, this notice seeks comments concerning the application for the National Flood Insurance Program's Community Rating System program. This program allows communities to become eligible for discounts on the cost of flood insurance when they undertake activities to mitigate anticipated damage due to flooding. The application materials verify and document the community mitigation activities performed and provide the Federal Emergency Management Agency with the information necessary to determine if flood insurance premium discounts are appropriate for participating communities. CRS credits have been added in numerous areas that contribute to the protection of salmonid habitat.

DATES: Comments must be submitted on or before September 20, 2013.

ADDRESSES: To avoid duplicate submissions to the docket, please use only one of the following means to submit comments:

(1) Online. Submit comments at www.regulations.gov under Docket ID FEMA-2013-0024. Follow the instructions for submitting comments.

(2) Mail. Submit written comments to Docket Manager, Office of Chief Counsel, DHS/FEMA, 500 C Street SW., Washington, DC 20472-3100.

(3) Facsimile. Submit comments to (703) 483-2999.

All submissions received must include the agency name and Docket ID. Regardless of the method used for submitting comments or material, all submissions will be posted, without change, to the Federal Rulemaking Portal at http://www.regulations.gov, and will include any personal information you provide. Therefore, submitting this information makes it public. You may wish to read the Privacy Act notice that is available via the link in the footer of www.regulations.gov.

FOR FURTHER INFORMATION CONTACT: Bill Lesser, Program Specialist, Federal Insurance and Mitigation Administration, at (202) 646-2807 for additional information. You may contact the Records Management Division for copies of the proposed collection of information at facsimile number (202) 646-3347 or email address: FEMA-Information-Collections@dhs.gov.

SUPPLEMENTARY INFORMATION: Section 541 of the National Flood Insurance Reform Act (NFIRA) of 1994, 42 U.S.C. 4022, requires that a community rating system be established. This ratings system is a voluntary program for communities and it would provide a method by which flood mitigation activities engaged in by these communities could be measured. The effect of this mitigation activity would reduce the exposure of the communities to damages resulting from flooding and in turn reduce the losses incurred as a result of this flooding. To encourage participation, discounts on flood insurance are offered within communities that successfully complete qualified mitigation actions, and the community ratings system provides the ability to measure these actions and to recertify the communities in successive years.

CRS credits have been added in numerous areas that contribute to the protection of salmonid habitat. Credit has been newly provided—or increased—for habitat preservation and protection related to salmonids in several areas. These include new credits for public outreach related to endangered species, open space preservation, higher regulatory standards that can include protective practices such as zoning that protect salmonid, and developing floodplain management plans. Low Impact Development and volume control credits were added to Stormwater Management. Incorporating low impact development practices will result in cleaner rainwater runoff. It will also delay urban runoff into floodplains, resulting in reduced stormwater volume that can otherwise have a detrimental scouring impact on a stream's health and its ability to support species.

Open Space credits were added for areas that include habitat for threatened and endangered species under Natural Functions Open Space. This incentive is designed to motivate local governments to protect lands that enhance the habitat of threatened and endangered species. Credits have been added under Open Space Preservation, Natural Shoreline Protection, to encourage communities to actively manage riparian lands to preserve and sustain biologic functions. Flood Protection points have been reduced for structural flood control features to encourage communities to seek flood risk reduction solutions that result in establishing new open space areas rather than continuing to support intensively developed floodplains. Dismantling or setting back levees in such a way that results in creation of open space will earn significantly more CRS points than previously available. Levee Credit Activity as well as credit for channel maintenance include a requirement for maintenance activities to be compliant with environmental and historic preservation laws and executive orders, including integration of vegetative management practices. A new CRS Class 4 prerequisite has been established requiring a CRS Class 4 or better community to have at least 100 points for activities that protect natural floodplain functions.

Collection of Information

Title: Community Rating System (CRS) Program—Application Worksheets and Commentary.

Type of Information Collection: Revision of a currently approved information collection.

FEMA Forms: FEMA Form 086-0-35, Community Rating System Application Letter of Interest and Quick Check Instructions; FEMA Form 086-0-35A, Community Annual Recertification; and FEMA Form 086-0-35B, Environmental and Historic Preservation Certifications.

Abstract: The CRS Application and Certifications are used by communities that participate in the National Flood Insurance Program's (NFIP) Community Rating System (CRS) to document the activities that communities have undertaken to mitigate against future flood losses. The CRS Application and Certifications provide a step-by-step process for communities to follow in their effort to achieve the maximum amount of discount on flood insurance premiums. CRS is a voluntary program where flood insurance costs are reduced in communities that implement practices, such as building codes and public education activities, that are recognized as reducing risks of flooding and promoting the purchase of flood insurance.

Affected Public: State, Local or Tribal Government.

Number of Respondents: 1,274.

Number of Responses: 1,274.

Estimated Total Annual Burden Hours: 32,908.

Estimated Cost: There are no estimated operational, maintenance, capital or start-up costs associated with this information collection.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: July 15, 2013.
Charlene D. Myrthil,
Director, Records Management Division, Mission Support Bureau, Federal Emergency Management Agency, Department of Homeland Security.

[FR Doc. 2013-17446 Filed 7-19-13; 8:45 am]

BILLING CODE 9110-11-P